DEPARTMENT OF AGRICULTURE

Food Safety and Inspection Service

[Docket No. FSIS-2006-0044]

Notice of Request for a Revision of a Currently Approved Information Collection (Listeria Control for Ready-to-Eat Products)

AGENCY: Food Safety and Inspection Service, USDA.

ACTION: Notice and request for comments.

SUMMARY: In accordance with the Paperwork Reduction Act of 1995 and the Office of Management and Budget (OMB) regulations, the Food Safety and Inspection Service (FSIS) is announcing its intention to request a revision of an approved information collection regarding Listeria Control for Ready-to-Eat products to reflect its most recent plant data, which support a finding of fewer total burden hours.

DATES: Comments on this notice must be received on or before May 7, 2007.

ADDRESSES: FSIS invites interested persons to submit comments on this notice. Comments may be submitted by any of the following methods:

• Mail, including floppy disks or CD-ROM's, and hand-or courier-delivered items: Send to Docket Clerk, U.S. Department of Agriculture, Food Safety and Inspection Service, 300 12th Street, SW., Room 102 Cotton Annex, Washington, DC 20250.

• Electronic mail: fsis.regulationscomments@fsis.usda.gov.

• Federal eRulemaking Portal: This Web site provides the ability to type short comments directly into the comment field on this Web page or attach a file for lengthier comments. Go to http://www.regulation.gov and in the “Search for Open Regulations” box, select “Food Safety and Inspection Service” from the agency drop-down menu, then click on “Submit.” In the Docket ID column, select FDMS Docket Number FSIS-2006-0044 to submit or view public comments and to view supporting and related materials available electronically.

All submissions received by mail or electronic mail must include the Agency name and docket number. All comments submitted in response to this document, as well as research and background information used by FSIS in developing this document, will be available for public inspection in the FSIS Docket Room at the address listed above between 8:30 a.m. and 4:30 p.m., Monday through Friday, except Federal holidays. Comments will also be posted on the Agency's Web site at http://www.fsis.usda.gov/regulations_&_policies/regulations_directives_&_notices/index.asp.

FOR FURTHER INFORMATION CONTACT: John O'Connell, Paperwork Reduction Act Coordinator, Food Safety and Inspection Service, USDA, 300 12th Street, SW., Room 112, Washington, DC 20250-3700, (202) 720-0345.

SUPPLEMENTARY INFORMATION: Title: Listeria Control for Ready-to-Eat Products.

OMB Number: 0583-0132.

Expiration Date of Approval: 07/31/2007.

Type of Request: Revision of an approved information collection.

Abstract: FSIS has been delegated the authority to exercise the functions of the Secretary as specified in the Federal Meat Inspection Act (FMIA) (21 U.S.C. 601, et seq.) and the Poultry Products Inspection Act (PPIA) (21 U.S.C. 451, et seq.). These statutes provide that FSIS is to protect the public by verifying that meat and poultry products are safe, wholesome, unadulterated, and properly labeled and packaged.

FSIS regulations (9 CFR 430.4) require official establishments that produce certain ready-to-eat (RTE) meat and poultry products to take measures to prevent product adulteration by the pathogen Listeria monocytogenes.

Official establishments that produce RTE meat and poultry products annually furnish FSIS with information on the production volume of RTE products affected by the regulations and the control measures used by the establishments.

RTE establishments develop microbiological sampling and testing plans to support the efficacy of sanitation controls. RTE establishments develop microbiological sampling plans to ensure that their sanitation procedures are adequate.

RTE establishments sample and test food-contact surfaces to verify that their Listeria controls are working.

Some RTE establishments hold and test for L. monocytogenes or indicator organisms.

FSIS is requesting a revision of an approved information collection addressing paperwork and recordkeeping requirements regarding Listeria control. The Agency is revising the Listeria controls information collection based on its most recent plant data, which support a finding of fewer total burden hours than there are in the approved information collection.

FSIS has made the following estimates based upon an information collection assessment:

Estimate of Burden: FSIS estimates that it will take respondents an average of 8.3 hours annually to collect and report this information.

Respondents: Ready-to-Eat establishments.

Estimated No. of Respondents: 3,590.

Estimated No. of Annual Responses per Respondent: 45,388.

Estimated Total Annual Burden on Respondents: 29,793 hours.

Copies of this information collection assessment can be obtained from John O'Connell, Paperwork Reduction Act Coordinator, Food Safety and Inspection Service, USDA, 300 12th Street, SW., Room 112, Washington, DC 20250-3700, (202) 720-5627, (202) 720-0345.

Comments are invited on: (a) Whether the proposed collection of information is necessary for the proper performance of FSIS' functions, including whether the information will have practical utility; (b) the accuracy of FSIS' estimate of the burden of the proposed collection of information, including the validity of the methodology and assumptions used; (c) ways to enhance the quality, utility, and clarity of the information to be collected; and, (d) ways to minimize the burden of the collection of information on those who are to respond, including through the use of appropriate automated, electronic, mechanical, or other technological collection techniques, or other forms of information technology. Comments may be sent to both John O'Connell, Paperwork Reduction Act Coordinator, at the address provided above, and the Desk Officer for Agriculture, Office of Information and Regulatory Affairs, Office of Management and Budget, Washington, DC 20253.

All responses to this notice will be summarized and included in the request for OMB approval. All comments will also become a matter of public record.

Additional Public Notification

Public awareness of all segments of rulemaking and policy development is important. Consequently, in an effort to ensure that the public and in particular minorities, women, and persons with disabilities, are aware of this notice, FSIS will announce it online through the FSIS Web page located at http://www.fsis.usda.gov/regulations/2007_Notices_Index/index.asp.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on March 2, 2007.
David P. Goldman,
Acting Administrator.

[FR Doc. E7-4086 Filed 3-6-07; 8:45 am]

BILLING CODE 3410-DM-P